DEPARTMENT OF AGRICULTURE

[Docket Number: USDA-2020-0002]

Notice of Request for Public Comment on Updates to Technical Guidelines for Quantifying Greenhouse Gas (GHG) Emissions and Carbon Sequestration at the Entity-Scale for Agriculture and Forestry

AGENCY: Office of the Chief Economist, U.S. Department of Agriculture.

ACTION: Request for public comment.

SUMMARY: In accordance with Section 2709 of the 2008 Farm Bill, the United States Department of Agriculture (USDA) developed technical guidelines and science-based methods to quantify greenhouse gas sources and sinks from the agriculture and forest sectors at the entity-scale. In the report, Quantifying Greenhouse Gas Fluxes in Agriculture and Forestry: Methods for Entity‐Scale Inventory, USDA stated it intends to periodically update the technical guidelines based on newly available data and methodologies, and an update is planned for completion within the next 3 years. As we prepare the updated report, USDA is seeking input from the public to ensure that relevant information and data are considered, improve the rigor of the guidelines, and enhance the usability of the methods in the updated technical guidelines. USDA is interested in your comments in response to the numbered topics, categories, and questions shown in the Supplementary Information section of this notice.

DATES: Interested persons are invited to submit comments on or before 11:59 p.m. Eastern Time by April 20, 2020. Comments received after the posted deadline may not be considered, regardless of postmark.

ADDRESSES: Comments submitted in response to this notice may be submitted online Via the Federal eRulemaking Portal. Go to http://www.regulations.gov and search for the Docket number USDA-2020-0002. Follow the online instructions for submitting comments.

All comments received will be posted without change and publicly available on www.regulations.gov.

FOR FURTHER INFORMATION CONTACT: William Hohenstein, Director, USDA Office of Energy and Environmental Policy, telephone: 202-720-6698 Email: William.hohenstein@usda.gov.

SUPPLEMENTARY INFORMATION: The report Quantifying Greenhouse Gas Fluxes in Agriculture and Forestry: Methods for Entity‐Scale Inventory was developed in response to the 2008 Farm Bill, Section 2709, which states that the United States Department of Agriculture (USDA) shall prepare technical guidelines that outline science-based methods to measure the carbon benefits from conservation and land management activities. The guidelines were intended for use with landowners, nongovernmental organizations, and other groups assessing increases and decreases in greenhouse gas emissions and carbon sequestration associated with changes in land management.

Notice of the project was announced in the Federal Register in February 2011 (76 FR 9534, February 18, 2011). The resulting report was published in 2014 as Quantifying Greenhouse Gas Fluxes in Agriculture and Forestry: Methods for Entity‐Scale Inventory, Technical Bulletin Number 1939, Office of the Chief Economist, USDA, Washington, DC. The report and associated materials, including an erratum published in 2019, are available at: https://www.usda.gov/oce/climate_change/estimation.htm. The methods have also been implemented in the online tool COMET-Farm (http://cometfarm.nrel.colostate .edu/), a joint project of USDA's Natural Resources Conservation Service and Colorado State University.

As outlined in the report, USDA intends to periodically update the technical guidelines based on newly available data and methodologies. An update of Quantifying Greenhouse Gas Fluxes in Agriculture and Forestry: Methods for Entity‐Scale Inventory is planned for completion within the next 3 years. The updated report is expected to undergo both expert review and public comment.

Updates to the technical guidelines will be focused on croplands, grazing lands, and animal production systems. Comments on managed wetland systems, forest systems, and land use change are also welcome. In addition to these sectors, USDA is considering adding a section on specialty crop systems.

USDA is currently seeking input from the public to ensure that relevant information and data are considered, improve the rigor of the guidelines, and enhance the usability of the methods in the updated technical guidelines. USDA is interested in your comments in response to the following:

1. Information on methods, practices, and technologies for quantification of greenhouse gas emissions and carbon sequestration at the entity-scale for agriculture.

1a. Information on methods, practices, and technologies currently included in the report, including new information on emission factors and default values. Please indicate the relevant chapter and page number(s) of the technical guidelines.

1b. Information on practices and technologies currently not included in the report. Are there additional practices and technologies for which the science and data are clear, and which should be addressed in the technical guidelines? Are estimation methods available for these technologies and practices? Please provide details.

1c. Information on promising technologies and practices for greenhouse gas mitigation and/or quantification which may become viable in the future.

2. Information to improve the rigor of the guidelines.

2a. Are there datasets that could be used to test and validate current and future methods?

2b. Are there findings that could reduce the uncertainty of current and future methods?

3. Information to improve the usability of the methods.

3a. How can USDA improve the usability of the technical guidelines for its customers?

3b. What specific changes or improvements could be made to the COMET-Farm online tool to improve the implementation of the USDA technical guidelines?

Please provide information including citations and/or contact details for the correspondent to the address listed above.

Robert Johansson,
Chief Economist.

[FR Doc. 2020-04385 Filed 3-3-20; 8:45 am]

BILLING CODE 3410-GL-P